DEPARTMENT OF TRANSPORTATION

Federal Aviation Administration

14 CFR Part 39

[Docket No. FAA-2014-0928; Directorate Identifier 2014-NM-040-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200 Freighter, A330-200, A330-300, A340-200, A340-300, A340-500, and A340-600 series airplanes. This proposed AD was prompted by a report of skin disbonding on a composite side panel of a rudder installed on an A310 airplane. This proposed AD would require a review of the maintenance records of the rudder to determine if any composite side shell panel repair has been done; a thermography inspection limited to the repair areas or complete side shells, as applicable, to identify possible in-service rudder repairs, damages, or fluid ingress; and applicable related investigative and corrective actions. We are proposing this AD to detect and correct the rudder skin disbonding, which could affect the structural integrity of the rudder, and could result in reduced controllability of the airplane.

DATES: We must receive comments on this proposed AD by February 12, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0928; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2014-0928; Directorate Identifier 2014-NM-040-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2014-0033, dated February 4, 2014 (referred to after this as the Mandatory Continuing Airworthiness Information, or “the MCAI”), to correct an unsafe condition for all Airbus Model A330-200 Freighter, A330-200, A330-300, A340-200, A340-300, A340-500, and A340-600 series airplanes. The MCAI states:

A case of skin disbonding was reported on a composite side panel of a rudder installed on an A310 aeroplane.

The investigation results revealed that this disbonding started from a skin panel area previously repaired in-service in accordance with the Structural Repair Manual (SRM).

The initial damage has been identified as a disbonding between the core and skin of the repaired area. This damage may not be visually detectable and likely propagates during normal operation due to the variation of pressure during ground-air-ground cycles.

Composite rudder side shell panels are also installed on A330 and A340 aeroplanes, which may have been repaired in-service using a similar method.

This condition, if not detected and corrected, could affect the structural integrity of the rudder, possibly resulting in reduced control of the aeroplane.

For the reasons described above, this [EASA] AD requires a one-time thermography inspection of a repaired rudder or a rudder whose maintenance records are incomplete and, depending on findings, accomplishment of applicable corrective and follow-up actions [including repetitive inspections.

The related investigative actions in this AD include, as applicable, an ultrasonic inspection, an elasticity laminate checker inspection, a tap test inspection, detailed inspections, thermography inspections, and ventilation of the core. The repetitive inspections include detailed inspections and thermography inspections. The corrective actions in this AD include repairs.

The compliance time for the related investigative actions is before further flight after accomplishing the applicable inspection required by paragraph (g)(1) or (g)(2)(ii) of this AD.

The intervals for the repetitive inspections are either 900 flight hours or 1,000 flight cycles, depending on the applicable conditions identified in the service information.

The compliance times for the corrective actions range, depending on the applicable conditions identified in the service information, from before further flight to within 4,500 flight cycles but not to exceed 24 months after accomplishing the applicable inspection required by paragraphs (g)(1) or (g)(2)(ii) of this AD.

You may examine the MCAI in the AD docket on the Internet at http://www.regulations.gov by searching for and locating Docket No. FAA-2014-0928.

Relevant Service Information

Airbus has issued the following service information:

• Airbus Service Bulletin A330-55-3043, dated February 7, 2013.

• Airbus Service Bulletin A340-55-4039, dated February 7, 2013.

• Airbus Service Bulletin A340-55-5007, dated February 7, 2013.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 55 airplanes of U.S. registry.

We also estimate that it would take about 45 work-hours per product to comply with the basic requirements of this proposed AD. The average labor rate is $85 per work-hour. Required parts would cost about $0 per product. Based on these figures, we estimate the cost of this proposed AD on U.S. operators to be $210,375, or $3,825 per product.

We have received no definitive data that would enable us to provide cost estimates for the on-condition actions specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Airbus: Docket No. FAA-2014-0928; Directorate Identifier 2014-NM-040-AD.

(a) Comments Due Date

We must receive comments by February 12, 2015.

(b) Affected ADs

None.

(c) Applicability

This AD applies to all airplanes identified in paragraphs (c)(1) and (c)(2) of this AD, certificated in any category.

(1) Airbus Model A330-201, -202, -203, -223, -223F, -243, -243F, -301, -302, -303, -321, -322, -323, -341, -342, and -343 airplanes, all manufacturer serial numbers.

(2) Airbus Model A340-211, -212, -213, -311, -312, -313, -541, and -642 airplanes, all manufacturer serial numbers.

(d) Subject

Air Transport Association (ATA) of America Code 55, Stabilizers.

(e) Reason

This AD was prompted by a report of skin disbonding on a composite side panel of a rudder installed on an A310 airplane. We are issuing this AD to detect and correct the rudder skin disbonding, which could affect the structural integrity of the rudder, and could result in reduced controllability of the airplane.

(f) Compliance

Comply with this AD within the compliance times specified, unless already done.

(g) Review the Maintenance Records

Within 24 months after the effective date of this AD: Review the maintenance records of the rudder to determine if any composite side shell panel repair has been accomplished on the rudder since first installation on an airplane.

(1) If, based on the maintenance record review, any repair identified in Figure A-GBBAA (Sheet 01 and 02) or Figure A-GBCAA (Sheet 02) of the service information specified in paragraphs (g)(1)(i) through (g)(1)(iii) of this AD is found: Within 24 months after the effective date of this AD, do a thermography inspection for repair, damages, and fluid ingress, limited to the repaired areas, in accordance with the Accomplishment Instructions of the applicable service information specified in paragraphs (g)(1)(i) through (g)(1)(iii) of this AD:

(i) Airbus Service Bulletin A330-55-3043, dated February 7, 2013 (for Model A330-201, -202, -203, -223, -223F, -243, -243F, -301, -302, -303, -321, -322, -323, -341, -342, and -343 airplanes).

(ii) Airbus Service Bulletin A340-55-4039, dated February 7, 2013 (for Model A340-211, -212, -213, -311, -312, and -313 airplanes).

(iii) Airbus Service Bulletin A340-55-5007, dated February 7, 2013 (for Model A340-541 and -642 airplanes).

(2) For a rudder for which maintenance records are unavailable or incomplete, do the actions specified in paragraph (g)(2)(i) and (g)(2)(ii) of this AD:

(i) No later than 3 months before accomplishment of the thermography inspection, as required by paragraph (g)(2)(ii) of this AD, contact Airbus to request related rudder manufacturing reworked data by submitting the serial number of the rudder to Airbus.

(ii) Within 24 months after the effective date of this AD: Do a thermography inspection for any repair on complete side shells to identify and mark any repair, in accordance with the Accomplishment Instructions of the applicable service information specified in paragraphs (g)(1)(i) through (g)(1)(iii) of this AD.

(h) Related Investigative Actions, Corrective Actions, and Repetitive Inspections

After the inspection as required by paragraph (g)(1) or (g)(2) of this AD: At the applicable compliance times specified in paragraph 1.E., “Compliance,” of Tables 3, 4A, 4B, 4C, 4D, and 5 of the applicable service information specified in paragraphs (g)(1)(i) through (g)(1)(iii) of this AD, accomplish all applicable related investigative and corrective actions, in accordance with the Accomplishment Instructions of the applicable service information specified in paragraphs (g)(1)(i) through (g)(1)(iii) of this AD; except as provided by paragraphs (i)(1) and (i)(2) of this AD. Options provided in the service information specified in paragraphs (g)(1)(i) through (g)(1)(iii) of this AD for accomplishing the actions are acceptable for the corresponding requirements of this paragraph provided that the related investigative and corrective actions are done at the applicable times specified in paragraph 1.E., “Compliance,” of the applicable service information specified in paragraphs (g)(1)(i) through (g)(1)(iii) of this AD, including applicable repetitive inspection intervals. Thereafter repeat the inspections of the restored and repaired areas at the applicable compliance time specified in paragraph 1.E., “Compliance,” of Tables 3, 4A, 4B, 4C, 4D, and 5 of the applicable service information specified in paragraphs (g)(1)(i) through (g)(1)(iii) of this AD.

(i) Exceptions to the Service Information

(1) Where the applicable service information specified in paragraphs (g)(1)(i) through (g)(1)(iii) of this AD specifies a compliance time relative to the date of the service information, this AD requires compliance within the specified compliance time after the effective date of this AD.

(2) If the service information in paragraphs (g)(1)(i) through (g)(1)(iii) of this AD specifies to contact Airbus: At the applicable compliance times specified in paragraph 1.E., “Compliance,” of the applicable service information specified in paragraphs (g)(1)(i) through (g)(1)(iii) of this AD, repair using a method approved by the Manager, International Branch, ANM-116, Transport Airplane Directorate, FAA; or the European Aviation Safety Agency (EASA); or Airbus's EASA Design Organization Approval (DOA).

(j) Provisions for Certain Airplanes

Airplanes fitted with a rudder having a serial number (S/N) that is not in the range of S/N TS-1001 through S/N TS-1043 inclusive, S/N TS-2001 through S/N TS-2074 inclusive, S/N TS-3000 through S/N TS-3525 inclusive, S/N TS-4001 through S/N TS-4170 inclusive, S/N TS-6001 through S/N TS-6246 inclusive, or S/N TS-5001 through S/N TS-5138 inclusive, are not affected by the requirements of paragraphs (g) and (h) of this AD provided that it is determined that no repair has been accomplished on the composite side shell panel of that rudder since first installation on the airplane.

(k) Parts Installation Limitations

As of the effective date of this AD, no person may install, on any airplane, a rudder, unless the record review and thermography inspection specified in paragraph (g) of this AD has been done on that rudder and thereafter all applicable related investigative actions, repetitive inspections, and corrective actions are done as required by paragraph (h) of this AD, except as provided in paragraph (j) of this AD.

(l) Repair Prohibition

As of the effective date of this AD, no person may accomplish a side shell repair on any rudder using a structure repair manual procedure identified in Figure A-GBBAA (Sheet 01 and 02) or Figure A-GBCAA (Sheet 02) of the service information specified in paragraphs (g)(1)(i) through (g)(1)(iii) of this AD, as applicable, on any airplane.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(n) Related Information

(1) Refer to Mandatory Continuing Airworthiness Information (MCAI) EASA Airworthiness Directive 2014-0033, dated February 4, 2014, for related information. This MCAI may be found in the AD docket on the Internet at http://www.regulations.gov by searching for and locating Docket No. FAA-2014-0928.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on December 17, 2014.
Michael Kaszycki,
Acting Manager, Transport Airplane Directorate, Aircraft Certification Service.

[FR Doc. 2014-30270 Filed 12-24-14; 8:45 am]

BILLING CODE 4910-13-P